SMALL BUSINESS ADMINISTRATION

Meeting of the Council on Underserved Communities Advisory Board

AGENCY: U.S. Small Business Administration (SBA).

ACTION: Notice of open Federal Advisory Committee meetings.

SUMMARY: The SBA is issuing this notice to announce the location, date, time and agenda for the initial meeting of the Council on Underserved Communities (CUC) Advisory Board.

DATES: The meeting will be held on Monday, April 25th at 1:00 p.m. EST.

ADDRESSES: The meeting will be held at the U. S. Small Business Administration, in the Administrator's Large Conference Room, located at 409 3rd St. SW., Suite 7000, Washington, DC 20416.

FOR FURTHER INFORMATION CONTACT: The meeting is open to the public however advance notice of attendance is requested. Anyone wishing to be a listening participant must contact DeJuana L. Thompson by phone or email. Her contact information is DeJuana Thompson, Senior Advisor for Public Engagement, 409 Third Street SW., Washington, DC 20416, Phone, 202-205-6920, email, dejuana.thompson@gmail.com. Additionally, if you need accommodations because of a disability or require additional information, please contact DeJuana Thompson at the information above.

SUPPLEMENTARY INFORMATION: Pursuant to section 10(a) of the Federal Advisory Committee Act (5 U.S.C. Appendix 2), SBA announces the meeting of the Council on Underserved Communities Advisory Board. This Board provides advice and counsel to the SBA Administrator and Associate Administrator. CUC members will examine the obstacles facing small businesses in underserved communities and recommend to SBA policy and programmatic changes to help strengthen SBA's programs and services to these communities.

The purpose of this meeting is to discuss following issues pertaining to the CUC Advisory Board.:

—Provide information on key SBA programs

—Board Assignments

—Determine the 2016 CUC Agenda

Miguel L' Heureux,
White House Liaison.

[FR Doc. 2016-08131 Filed 4-7-16; 8:45 am]

BILLING CODE 8025-01-P